DEPARTMENT OF HOMELAND SECURITY

Coast Guard

33 CFR Part 165

[Docket No. USCG-2012-0339]

Safety Zones: Fireworks Displays in the Captain of the Port Columbia River Zone

AGENCY: Coast Guard, DHS.

ACTION: Notice of enforcement of regulation.

SUMMARY: The Coast Guard will enforce the safety zones for fireworks displays in the Sector Columbia River Captain of the Port Zone from May 2012 through September 2012. This action is necessary to ensure the safety of the crews onboard the vessels displaying the fireworks, the maritime public, and all other observers. During the enforcement period for each specific safety zone, no person or vessel may enter or remain in the safety zone without permission of the Captain of the Port Columbia River or his designated representative.

DATES: The regulations in 33 CFR Part 165.1315 will be enforced as listed in the SUPPLEMENTARY INFORMATION section.

FOR FURTHER INFORMATION CONTACT: If you have questions on this notice, call or email ENS Ian McPhillips, Waterways Management Division, MSU Portland, Coast Guard; telephone 503-240-9319, email Ian.P.McPhillips@uscg.mil.

SUPPLEMENTARY INFORMATION: The Coast Guard will enforce the safety zone regulation in 33 CFR 165.1315 for fireworks displays in the Columbia River Captain of the Port Zone during the dates and times listed as follows:

(1) Portland Rose Festival Fireworks Display, Portland, OR: May 25, 2012 from 8:30 p.m. until 11:30 p.m.

(2) Tri-City Chamber of Commerce Fireworks Display, Columbia Park, Kennewick, WA: July 4, 2012 from 8:30 p.m. until 11:30 p.m.

(3) Cedco Inc. Fireworks Display, North Bend, OR: July 3, 2012 from 8:30 p.m. until 11:30 p.m.

(4) Astoria 4th of July Fireworks, Astoria, OR: July 4, 2012 from 8:30 p.m. until 11:30 p.m.

(5) Oregon Food Bank Blues Festival Fireworks, Portland, OR: July 4, 2012 from 8:30 p.m. until 11:30 p.m.

(6) Oregon Symphony Concert Fireworks Display, Portland, OR: August 30, 2012 from 8:30 p.m. until 11:30 p.m.

(7) Florence Chamber 4th of July Fireworks Display, Florence, OR: July 4, 2012 from 9 p.m. until 11 p.m.

(8) Oaks Park July 4th Celebration, Portland, OR: July 4, 2012 from 9 p.m. until 11 p.m.

(9) Rainier Days Fireworks Celebration, Rainier, OR: July 14, 2012 from 9 p.m. until 11 p.m.

(10) Independence Day at the Port, Ilwaco, WA: July 7, 2012 from 10 p.m. until 10:30 p.m.

(11) Milwaukie Centennial Fireworks Display, Milwaukie, OR: July 28, 2012 from 9 p.m. until 11 p.m.

(12) Splash Aberdeen Waterfront Festival, Aberdeen, WA: July 4, 2012 from 9 p.m. until 11 p.m.

(13) City of Coos Bay July 4th Celebration, Coos Bay, OR: July 4, 2012 from 9:00 p.m. until 11:00 p.m.

(14) Arlington Chamber of Commerce Fireworks Display, Arlington, OR: July 4, 2012 from 8:30 p.m. until 11:30 p.m.

(15) East County 4th of July Fireworks, Gresham, OR: July 4, 2012 from 8:30 p.m. until 11:30 p.m.

(16) Port of Cascade Locks July 4th Fireworks Display, Cascade Locks, OR: July 4, 2012 from 8:30 p.m. until 11:30 p.m.

(17) Astoria Regatta Association Fireworks Display, Astoria, OR: August 11, 2012 from 8:30 p.m. until 11:30 p.m.

(18) City of Washougal July 4th Fireworks Display, Washougal, WA: July 4, 2012 from 8:30 p.m. until 11:30 p.m.

(19) City of St. Helens 4th of July Fireworks Display, St. Helens, OR: July 4, 2012 from 8:30 p.m. until 11:30 p.m.

(20) Waverly Country Club 4th of July Fireworks Display, Milwaukie, OR: July 4, 2012 from 8:30 p.m. until 11:30 p.m.

(21) Booming Bay Fireworks, Westport, WA: July 4, 2012 from 8:30 until 11:30 p.m.

(22) Hood River 4th of July, Hood River, OR: July 4, 2012 from 8:30 p.m. until 11:30 p.m.

(23) Rufus 4th of July Fireworks, Rufus, OR: July 4, 2012 from 8:30 p.m. until 11:30 p.m.

Under the provisions of 33 CFR part 165.1315 and 33 CFR part 165 subparts C, no person or vessel may enter or remain in the safety zones without permission of the Captain of the Port Columbia River or his designated representative. See 33 CFR 165.1315 and 33 CFR 165 Subparts C for additional information and prohibitions. Persons or vessels wishing to enter the safety zones may request permission to do so from the Captain of the Port Columbia River or his designated representative via VHF Channel 16 or 13. The Coast Guard may be assisted by other Federal, State, or local enforcement agencies in enforcing this regulation.

This notice is issued under authority of 33 CFR 165.1315 and 5 U.S.C. 552(a). In addition to this notice in the Federal Register, the Coast Guard will provide the maritime community with notification of this enforcement period via the Local Notice to Mariners.

Dated: May 3, 2012.
B.C. Jones,
Captain, U.S. Coast Guard, Captain of the Port, Columbia River.

[FR Doc. 2012-13032 Filed 5-30-12; 8:45 am]

BILLING CODE 9110-04-P